DEPARTMENT OF TRANSPORTATION

Office of the Secretary

Notice of Applications for Certificates of Public Convenience and Necessity and Foreign Air Carrier Permits Filed Under Subpart B (Formerly Subpart Q) During the Week Ending January 24, 2015

The following Applications for Certificates of Public Convenience and Necessity and Foreign Air Carrier Permits were filed under Subpart B (formerly Subpart Q) of the Department of Transportation's Procedural Regulations (See 14 CFR 302.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2007-0066.

Date Filed: January 20, 2015.

Due Date for Answers, Conforming Applications, or Motion to Modify Scope: February 10, 2015.

Description: Application of Hainan Airlines Co., Ltd. (“Hainan Airlines”) requesting an amendment to Hainan Airlines' foreign air carrier permit to enable it to engage in scheduled foreign air transportation of persons, property and mail between (i) Beijing, People's Republic of China (PEK), on the one hand, and San Jose, California (SJC), on the other hand, and (ii) Shanghai, People's Republic of China (PVG), on the one hand, and Seattle, Washington (SEA), on the other hand. Hainan Airlines also requests exemption authority to the extent necessary so that it may exercise the rights requested in this application prior to the issuance of an amended foreign air carrier permit.

Barbara J. Hairston,
Supervisory Dockets Officer, Docket Operations, Federal Register Liaison.

[FR Doc. 2015-05626 Filed 3-11-15; 8:45 am]

BILLING CODE 4910-9x-P